DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Iowa Northwestern Railway

[Docket Number FRA-2002-12434]

The Iowa Northwestern Railway proposes to operates a diesel electric locomotive, number IANW 632, with laminated safety glass glazing which is non-compliant with current Federal Safety Regulations. This locomotive, Model C-420, built by the American Locomotive Company (Alco) of Schenectady, New York in 1966 is proposed to operate in limited regular service, less than once per week, on a new shortline railroad the Iowa Northwestern Railway. The locomotive would operate in a rural/suburban area between Allendorf and Superior, Iowa, a distance of 37.3 miles through Dickinson and Osceola Counties. Osceola County is a rural area, with only two out of 13 grade crossings protected by signal lights. Dickinson County is also primarily rural with three out of 27 grade crossings protected by signal lights. The first 32 miles of the IANW are operated as FRA Class II track, with a maximum speed of 25 mph. The remaining 5.3 miles of track are classified by FRA as “Excepted Track”, and used for car storage.

The IANW requests relief from the requirements of Title 49 Code of Federal Regulations (CFR) § 223.11 Requirements for existing locomotives due to the infrequent use of the locomotive, the rural area of operation, and the cost of installing compliant glazing. Upon researching historical occurrences of vandalism to railway glazing on the branch now operated by the IANW, the Union Pacific Railroad, former owner, indicated to the IANW that no such acts were reported.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-12434) and must be submitted to the Docket Clerk, DOT Central Docket Management Facility, Room P1-401 (Plaza Level), 400 Seventh Street, SW., Washington, DC 20590. Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://dms.dot.gov.

Issued in Washington, DC on August 20, 2002.
Grady C. Cothen, Jr.,
Deputy Associate Administrator for Safety Standards and Program Development.

[FR Doc. 02-21921 Filed 8-27-02; 8:45 am]

BILLING CODE 4910-06-P